DEPARTMENT OF ENERGY

Federal Energy Regulatory Commission

Combined Notice of Filings

Take notice that the Commission has received the following Natural Gas Pipeline Rate and Refund Report filings:

Filings Instituting Proceedings

Docket Numbers: PR26-37-000.

Applicants: Black Hills/Kansas Gas Utility Company, LLC.

Description: 284.123 Rate Filing: BHKG AVTS Filing to be effective 2/1/2026.

Filed Date: 2/26/26.

Accession Number: 20260226-5189.

Comment Date: 5 p.m. ET 3/19/26.

Docket Numbers: RP26-545-000.

Applicants: Transcontinental Gas Pipe Line Company, LLC.

Description: 4(d) Rate Filing: Annual Electric Power Tracker Filing Effective April 1, 2026 to be effective 4/1/2026.

Filed Date: 2/26/26.

Accession Number: 20260226-5201.

Comment Date: 5 p.m. ET 3/10/26.

Docket Numbers: RP26-546-000.

Applicants: Rockies Express Pipeline LLC.

Description: 4(d) Rate Filing: REX 2026-02-26 Negotiated Rate Agreement and Amendment to be effective 2/24/2026.

Filed Date: 2/26/26.

Accession Number: 20260226-5213.

Comment Date: 5 p.m. ET 3/10/26.

Docket Numbers: RP26-547-000.

Applicants: High Point Gas Transmission, LLC.

Description: Compliance filing: High Point Gas Annual Fuel Filing to be effective N/A.

Filed Date: 2/26/26.

Accession Number: 20260226-5234.

Comment Date: 5 p.m. ET 3/10/26.

Docket Numbers: RP26-548-000.

Applicants: NEXUS Gas Transmission, LLC.

Description: 4(d) Rate Filing: 2026 NEXUS ASA Filing to be effective 4/1/2026.

Filed Date: 2/26/26.

Accession Number: 20260226-5246.

Comment Date: 5 p.m. ET 3/10/26.

Docket Numbers: RP26-549-000.

Applicants: Northwest Pipeline LLC.

Description: 4(d) Rate Filing: Non Conforming Service Agreement—Pacificorp to be effective 4/1/2026.

Filed Date: 2/26/26.

Accession Number: 20260226-5253.

Comment Date: 5 p.m. ET 3/10/26.

Docket Numbers: RP26-550-000.

Applicants: El Paso Natural Gas Company, L.L.C.

Description: 4(d) Rate Filing: Removal of Negotiated Rate Agreement (Salt Creek) to be effective 4/1/2026.

Filed Date: 2/26/26.

Accession Number: 20260226-5266.

Comment Date: 5 p.m. ET 3/10/26.

Docket Numbers: RP26-551-000.

Applicants: Northwest Pipeline LLC.

Description: 4(d) Rate Filing: North Seattle and South Seattle Annual Charge Update Filing 2026 to be effective 4/1/2026.

Filed Date: 2/26/26.

Accession Number: 20260226-5311.

Comment Date: 5 p.m. ET 3/10/26.

Docket Numbers: RP26-552-000.

Applicants: Panhandle Eastern Pipe Line Company, LP.

Description: 4(d) Rate Filing: Fuel Filing on 2-27-26 to be effective 4/1/2026.

Filed Date: 2/27/26.

Accession Number: 20260227-5006.

Comment Date: 5 p.m. ET 3/11/26.

Docket Numbers: RP26-553-000.

Applicants: Trunkline Gas Company, LLC.

Description: 4(d) Rate Filing: Fuel Filing on 2-27-26 to be effective 4/1/2026.

Filed Date: 2/27/26.

Accession Number: 20260227-5014.

Comment Date: 5 p.m. ET 3/11/26.

Docket Numbers: RP26-554-000.

Applicants: Adelphia Gateway, LLC.

Description: Compliance filing: Adelphia Gateway Use and System Balancing Adjustment to be effective N/A.

Filed Date: 2/27/26.

Accession Number: 20260227-5026.

Comment Date: 5 p.m. ET 3/11/26.

Docket Numbers: RP26-555-000.

Applicants: KPC Pipeline, LLC.

Description: 4(d) Rate Filing: Fuel Reimbursement Adjustment to be effective 4/1/2026.

Filed Date: 2/27/26.

Accession Number: 20260227-5028.

Comment Date: 5 p.m. ET 3/11/26.

Docket Numbers: RP26-556-000.

Applicants: Gas Transmission Northwest LLC.

Description: 4(d) Rate Filing: GTN NCNR SoCalGas 10577 to be effective 4/1/2026.

Filed Date: 2/27/26.

Accession Number: 20260227-5029.

Comment Date: 5 p.m. ET 3/11/26.

Docket Numbers: RP26-557-000.

Applicants: Rover Pipeline LLC.

Description: 4(d) Rate Filing: Fuel Filing on 2-27-26 to be effective 4/1/2026.

Filed Date: 2/27/26.

Accession Number: 20260227-5035.

Comment Date: 5 p.m. ET 3/11/26.

Docket Numbers: RP26-558-000.

Applicants: Rover Pipeline LLC.

Description: Compliance filing: Rover 2025 AMPS Filing to be effective N/A.

Filed Date: 2/27/26.

Accession Number: 20260227-5045.

Comment Date: 5 p.m. ET 3/11/26.

Docket Numbers: RP26-559-000.

Applicants: Columbia Gulf Transmission, LLC.

Description: 4(d) Rate Filing: TRA 2026 to be effective 4/1/2026.

Filed Date: 2/27/26.

Accession Number: 20260227-5052.

Comment Date: 5 p.m. ET 3/11/26.

Docket Numbers: RP26-560-000.

Applicants: Rover Pipeline LLC.

Description: Compliance filing: Flow Through of Cash-Out Penalty Revenues filed on 2-27-26 to be effective N/A.

Filed Date: 2/27/26.

Accession Number: 20260227-5057.

Comment Date: 5 p.m. ET 3/11/26.

Docket Numbers: RP26-561-000.

Applicants: High Island Offshore System, L.L.C.

Description: Waiver Request of 2026 Annual Fuel Tracker filing of High Island Offshore System, L.L.C.

Filed Date: 2/27/26.

Accession Number: 20260227-5065.

Comment Date: 5 p.m. ET 3/11/26.

Docket Numbers: RP26-562-000.

Applicants: Kern River Gas Transmission Company.

Description: 4(d) Rate Filing: 2026 Daggett Surcharge Filing to be effective 4/1/2026.

Filed Date: 2/27/26.

Accession Number: 20260227-5066.

Comment Date: 5 p.m. ET 3/11/26.

Docket Numbers: RP26-563-000.

Applicants: Portland Natural Gas Transmission System.

Description: Annual Report of Operational Purchases and Sales of Portland Natural Gas Transmission System.

Filed Date: 2/27/26.

Accession Number: 20260227-5070.

Comment Date: 5 p.m. ET 3/11/26.

Docket Numbers: RP26-564-000.

Applicants: Viking Gas Transmission Company.

Description: 4(d) Rate Filing: Annual Load Management Cost Reconciliation Adjustment—2026 Rate to be effective 4/1/2026.

Filed Date: 2/27/26.

Accession Number: 20260227-5074.

Comment Date: 5 p.m. ET 3/11/26.

Docket Numbers: RP26-565-000.

Applicants: Viking Gas Transmission Company.

Description: 4(d) Rate Filing: Semi-Annual Fuel and Loss Retention Adjustment—Summer 2026 Rate to be effective 4/1/2026.

Filed Date: 2/27/26.

Accession Number: 20260227-5086.

Comment Date: 5 p.m. ET 3/11/26.

Docket Numbers: RP26-566-000.

Applicants: WBI Energy Transmission, Inc.

Description: 4(d) Rate Filing: 2026 Annual Fuel & Electric Power Reimbursement Adjustment to be effective 4/1/2026.

Filed Date: 2/27/26.

Accession Number: 20260227-5093.

Comment Date: 5 p.m. ET 3/11/26.

Docket Numbers: RP26-567-000.

Applicants: Viking Gas Transmission Company.

Description: 4(d) Rate Filing: Annual Electric Power Cost Recovery Adjustment—2026 Rate to be effective 4/1/2026.

Filed Date: 2/27/26.

Accession Number: 20260227-5105.

Comment Date: 5 p.m. ET 3/11/26.

Docket Numbers: RP26-568-000.

Applicants: ANR Pipeline Company.

Description: 4(d) Rate Filing: Tourmaline 141535 Non-Conforming Agreement to be effective 4/1/2026.

Filed Date: 2/27/26.

Accession Number: 20260227-5108.

Comment Date: 5 p.m. ET 3/11/26.

Docket Numbers: RP26-569-000.

Applicants: ANR Pipeline Company.

Description: 4(d) Rate Filing: Dynegy 142311 Non-Conforming Agreement to be effective 4/1/2026.

Filed Date: 2/27/26.

Accession Number: 20260227-5125.

Comment Date: 5 p.m. ET 3/11/26.

Docket Numbers: RP26-570-000.

Applicants: El Paso Natural Gas Company, L.L.C.

Description: 4(d) Rate Filing: Negotiated Rate Agreement Update (Eco-Energy April-June 2026) to be effective 4/1/2026.

Filed Date: 2/27/26.

Accession Number: 20260227-5128.

Comment Date: 5 p.m. ET 3/11/26.

Docket Numbers: RP26-571-000.

Applicants: Transcontinental Gas Pipe Line Company, LLC.

Description: 4(d) Rate Filing: 2026 Annual Fuel Tracker Filing to be effective 4/1/2026.

Filed Date: 2/27/26.

Accession Number: 20260227-5132.

Comment Date: 5 p.m. ET 3/11/26.

Docket Numbers: RP26-572-000.

Applicants: Guardian Pipeline, L.L.C.

Description: 4(d) Rate Filing: Semi-Annual Electric Power Cost Recovery Adjustment—Summer 2026 Rate to be effective 4/1/2026.

Filed Date: 2/27/26.

Accession Number: 20260227-5136.

Comment Date: 5 p.m. ET 3/11/26.

Docket Numbers: RP26-573-000.

Applicants: Spire MoGas Pipeline LLC.

Description: 4(d) Rate Filing: Spire MoGas Negotiated Rate Agreements Filing to be effective 4/1/2026.

Filed Date: 2/27/26.

Accession Number: 20260227-5146.

Comment Date: 5 p.m. ET 3/11/26.

Docket Numbers: RP26-574-000.

Applicants: Golden Pass Pipeline LLC.

Description: 4(d) Rate Filing: 2026 Annual Retainage to be effective 4/1/2026.

Filed Date: 2/27/26.

Accession Number: 20260227-5151.

Comment Date: 5 p.m. ET 3/11/26.

Docket Numbers: RP26-575-000.

Applicants: Columbia Gas Transmission, LLC.

Description: 4(d) Rate Filing: EPCA 2026 to be effective 4/1/2026.

Filed Date: 2/27/26.

Accession Number: 20260227-5157.

Comment Date: 5 p.m. ET 3/11/26.

Docket Numbers: RP26-576-000.

Applicants: MarkWest Pioneer, L.L.C.

Description: 4(d) Rate Filing: Quarterly Fuel Adjustment Filing to be effective 4/1/2026.

Filed Date: 2/27/26.

Accession Number: 20260227-5162.

Comment Date: 5 p.m. ET 3/11/26.

Docket Numbers: RP26-577-000.

Applicants: Cheniere Corpus Christi Pipeline, LP.

Description: 4(d) Rate Filing: CCPL Electric Power Cost Adjustment Filing to be effective 4/1/2026.

Filed Date: 2/27/26.

Accession Number: 20260227-5169.

Comment Date: 5 p.m. ET 3/11/26.

Docket Numbers: RP26-578-000.

Applicants: Midwestern Gas Transmission Company.

Description: 4(d) Rate Filing: Annual Fuel Retention Percentage Adjustment—2026 Rate to be effective 4/1/2026.

Filed Date: 2/27/26.

Accession Number: 20260227-5170.

Comment Date: 5 p.m. ET 3/11/26.

Docket Numbers: RP26-579-000.

Applicants: Columbia Gas Transmission, LLC.

Description: 4(d) Rate Filing: TCRA 2026 to be effective 4/1/2026.

Filed Date: 2/27/26.

Accession Number: 20260227-5172.

Comment Date: 5 p.m. ET 3/11/26.

Docket Numbers: RP26-580-000.

Applicants: Columbia Gas Transmission, LLC.

Description: 4(d) Rate Filing: RAM 2026 to be effective 4/1/2026.

Filed Date: 2/27/26.

Accession Number: 20260227-5176.

Comment Date: 5 p.m. ET 3/11/26.

Docket Numbers: RP26-581-000.

Applicants: Colorado Interstate Gas Company, L.L.C.

Description: 4(d) Rate Filing: CIG Qtrly LUF and Semi-Annual Fuel Filing Feb 2026 to be effective 4/1/2026.

Filed Date: 2/27/26.

Accession Number: 20260227-5181.

Comment Date: 5 p.m. ET 3/11/26.

Docket Numbers: RP26-582-000.

Applicants: RH energytrans, LLC.

Description: 4(d) Rate Filing: FL U Rates 2026 to be effective 4/1/2026.

Filed Date: 2/27/26.

Accession Number: 20260227-5192.

Comment Date: 5 p.m. ET 3/11/26.

Docket Numbers: RP26-583-000.

Applicants: Natural Gas Pipeline Company of America LLC.

Description: 4(d) Rate Filing: NICOR Negotiated Rate Filing—2026 to be effective 4/1/2026.

Filed Date: 2/27/26.

Accession Number: 20260227-5195.

Comment Date: 5 p.m. ET 3/11/26.

Docket Numbers: RP26-584-000.

Applicants: El Paso Natural Gas Company, L.L.C.

Description: 4(d) Rate Filing: Negotiated Rate Agreement Update (Shell April 2026) to be effective 4/1/2026.

Filed Date: 2/27/26.

Accession Number: 20260227-5212.

Comment Date: 5 p.m. ET 3/11/26.

Docket Numbers: RP26-585-000.

Applicants: TransColorado Gas Transmission Company LLC.

Description: 4(d) Rate Filing: TC Quarterly FL&U Update Feb. 2026 to be effective 4/1/2026.

Filed Date: 2/27/26.

Accession Number: 20260227-5221.

Comment Date: 5 p.m. ET 3/11/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR26-19-001.

Applicants: Black Hills/Kansas Gas Utility Company, LLC.

Description: 284.123 Rate Filing: BHKG Amended Filing to PR26-19 to be effective 1/1/2026.

Filed Date: 2/26/26.

Accession Number: 20260226-5206.

Comment Date: 5 p.m. ET 3/19/26.

Docket Numbers: PR26-24-001.

Applicants: Bridgeline Holdings, L.P.

Description: 284.123(g) Rate Filing: Bridgeline Cost of Service Rate Amendment Filing to be effective 1/2/2026.

Filed Date: 2/27/26.

Accession Number: 20260227-5083.

Comment Date: 5 p.m. ET 3/20/26.

Docket Numbers: RP23-1099-007.

Applicants: Gas Transmission Northwest LLC.

Description: Compliance filing: Phase II Settlement Rate Implementation to be effective 4/1/2026.

Filed Date: 2/27/26.

Accession Number: 20260227-5081.

Comment Date: 5 p.m. ET 3/11/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 27, 2026.
Carlos D. Clay,
Deputy Secretary.

[FR Doc. 2026-04262 Filed 3-3-26; 8:45 am]

BILLING CODE 6717-01-P